ENVIRONMENTAL PROTECTION AGENCY

[ER-FRL-6693-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 6, 2007 (72 FR 17156).

Draft EISs

EIS No. 20070401, ERP No. D-GSA-D80032-DC, Department of Homeland Security Headquarters at the St. Elizabeths West Campus, To Consolidate Federal Office Space on a Secure Site, Washington, DC.

Summary: EPA expressed environmental concerns about impacts to vegetation, historic woodlands, and the cultural landscape, soil contamination, and surface and groundwater. EPA also expressed concern about transportation and environmental justice issues. Rating EC2.

Final EISs

EIS No. 20070408, ERP No. F-AFS-J61107-ND, NE McKenzie Allotment Management Plan Revisions, Proposes to Continue Livestock Grazing on 28 Allotments, Dakota Prairie Grasslands Land and Resource Management Plan, Dakota Prairie Grasslands, McKenzie Ranger District, McKenzie County, ND.

Summary: The final EIS addressed EPA's concerns about impacts to water quality and riparian areas. EPA does not object to the proposed project; however, we recommend future monitoring include numeric criteria along with other narrative indicators.

EIS No. 20070432, ERP No. F-FHW-G40193-LA, I-49 South Project, from Raceland to the Westbank Expressway Route U.S. 90, Funding, Coast Guard Bridge Permit, U.S. Army COE Section 10 and 404 Permits, Jefferson, Lafourche, and St. Charles Parishes, LA.

Summary: No formal comment letter was sent to the preparing agency.

EIS No. 20070467, ERP No. F-BLM-G65101-NM, Special Status Species Resource Management Plan Amendment, Managing Public Land and Federal Minerals in Portions of Chaves, Eddy, Lea, and Roosevelt Counties, NM.

Summary: No formal comment letter was sent to the preparing agency.

EIS No. 20070468, ERP No. FS-SFW-K99034-CA, Coachella Valley, Revision to the Multiple Species Habitat Conservation Plan (MSHCP), Natural Community Conservation Plan, Santa Rosa and San Jacinto Mountains Trails Plan, Issuance of Incidental Take Permit, Riverside County, CA.

Summary: No formal letter was sent to the preparing agency.

Dated: December 4, 2007.
Robert W. Hargrove,
Director, NEPA Compliance Division, Office of Federal Activities.

[FR Doc. E7-23807 Filed 12-6-07; 8:45 am]

BILLING CODE 6560-50-P